DEPARTMENT OF HOMELAND SECURITY

Coast Guard

[USCG-2007-29053]

Collection of Information Under Review by Office of Management and Budget: OMB Control Number: 1625-0024, 1625-0036, 1625-0061, and 1625-0100

AGENCY: Coast Guard, DHS.

ACTION: Request for comments.

SUMMARY: In compliance with the Paperwork Reduction Act of 1995, the U.S. Coast Guard intends to submit Information Collection Requests (ICRs) to the Office of Management and Budget (OMB) requesting an extension of their approval for the following collections of information: (1) 1625-0024, Safety Approval of Cargo Containers; (2) 1625-0036, Plan Approval and Records for U.S. and Foreign Tank Vessels Carrying Oil in Bulk; (3) 1625-0061, Commercial Fishing Industry Vessel Safety Regulations; and (4) 1625-0100, Advance Notice of Vessel Arrival. Before submitting these ICRs to OMB, the Coast Guard is inviting comments as described below.

DATES: Comments must reach the Coast Guard on or before December 4, 2007.

ADDRESSES: To make sure your comments and related material do not enter the docket [USCG-2007-29053] more than once, please submit them by only one of the following means:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

Copies of the completed ICRs are available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

We encourage you to respond to this request by submitting comments and related materials. We will post all comments received, without change, to http://www.regulations.gov. They will include any personal information you provide. We have an agreement with DOT to use the Docket Management Facility. Please see the paragraph on DOT's “Privacy Act Policy” below.

Submitting comments: If you submit a comment, please include the docket number [USCG-2007-29053], indicate the specific section of the document to which each comment applies, providing a reason for each comment. We recommend that you include your name, mailing address, and an e-mail address or other contact information in the body of your document to ensure that you can be identified as the submitter. This also allows us to contact you in the event further information is needed or if there are questions. For example, if we cannot read your submission due to technical difficulties and you cannot be contacted, your submission may not be considered. You may submit your comments and material by electronic means, mail, fax, or delivery to the Docket Management Facility at the address under ADDRESSES; but please submit them by only one means. If you submit them by mail or delivery, submit them in an unbound format, no larger than 8-½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://www.regulations.gov to view comments and documents mentioned in this notice as being available in the docket. Conduct a simple search using the docket number. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://DocketsInfo.dot.gov.

Information Collection Requests

1. Title: Safety Approval of Cargo Containers.

OMB Control Number: 1625-0024.

Summary: This information collection requires owners/manufacturers of cargo containers to submit information and keep records associated with their approval/inspection. This information is required to ensure compliance with the International Convention for Safe Containers (CSC); 29 U.S.T. 3707; T.I.A.S. 9037.

Need: This collection of information addresses the reporting/recordkeeping requirements for containers in 49 CFR parts 450 through 453. These rules are necessary since the U.S. is signatory to the CSC, which requires all containers to be safety approved prior to being used in trade. These rules prescribe only the minimum requirements of the CSC.

Respondents: Owners and manufacturers of containers and organizations the Coast Guard delegates to act as an approval authority.

Frequency: On occasion.

Burden Estimate: The estimated burden has increased from 73,272 hours to 105,920 hours a year.

2. Title: Plan Approval and Records for U.S. and Foreign Tank Vessels Carrying Oil in Bulk.

OMB Control Number: 1625-0036.

Summary: This information collection aids the Coast Guard in determining if a vessel complies with certain safety and environmental protection standards. Plans, to include records, for construction or modification of U.S. or foreign vessels submitted and maintained on board are required for compliance with these standards.

Need: Title 46 U.S.C. 3703 provides the Coast Guard with the authority to regulate design, construction, alteration, repair, maintenance, operation, equipping, personnel qualification, and manning of vessels carrying oil in bulk. See 33 CFR part 157, Rules for the Protection of the Marine Environment Relating to Tank Vessels Carrying Oil in Bulk, and 46 CFR chapter I, subchapter D, Tank Vessels.

Respondents: Owners and operators of vessels.

Frequency: On occasion.

Burden Estimate: The estimated burden has increased from 582 hours to 1,253 hours a year.

3. Title: Commercial Fishing Industry Vessel Safety Regulations.

OMB Control Number: 1625-0061.

Summary: This information collection is intended to improve safety on board vessels in the commercial fishing industry. Requirements apply to those vessels and to seamen on them.

Need: Under the authority of 46 U.S.C. 6104, the Coast Guard has promulgated regulations in 46 CFR part 28 to improve the overall safety of commercial fishing industry vessels. The rules allowing the collection provide a means of verifying compliance and enhancing safe operation of fishing vessels.

Respondents: Owners, agents, individuals-in-charge of commercial fishing vessels, and insurance underwriters.

Frequency: On occasion.

Burden Estimate: The estimated burden has decreased from 7,720 hours to 5,917 hours a year.

4. Title: Advance Notice of Vessel Arrival.

OMB Control Number: 1625-0100.

Summary: The Ports and Waterways Safety Act authorizes the Coast Guard to require pre-arrival messages from any vessel entering a port or place in the United States.

Need: This information is required under 33 CFR part 160 subpart C to control vessel traffic, develop contingency plans, and enforce regulations.

Respondents: Vessel owners and operators.

Frequency: On occasion.

Burden Estimate: The estimated burden has increased from 175,525 hours to 199,889 hours a year.

Dated: September 27, 2007.
D. T. Glenn,
Rear Admiral, U.S. Coast Guard, Assistant Commandant for Command, Control, Communications, Computers and Information Technology.

[FR Doc. E7-19674 Filed 10-4-07; 8:45 am]

BILLING CODE 4910-15-P